DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before June 9, 2021.

ADDRESSES: You may submit your comments including the docket number of the petition by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: S. Aromie Noe, Acting Deputy Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: S. Aromie Noe, Office of Standards, Regulations, and Variances at 202-693-9440 (voice), noe.song-ae.a@dol.gov (email), or 202-693-9441 (facsimile). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2021-006-C.

Petitioner: Patton Mining, LLC., P.O. Box 457, Hillsboro Illinois (ZIP 62049).

Mine: Deer Run Mine, MSHA I.D. No. 11-03182, located in Montgomery County, Illinois.

Regulations Affected: 30 CFR 75.503 (Permissible electric face equipment; maintenance); and 18.35(a)(5)(i) (Portable (trailing) cables and cords).

Modification Request: The petitioner requests a modification of 30 CFR 75.503 to increase the maximum length of trailing cables supplying power to permissible equipment used in continuous mining sections. Specifically, the petitioner requests a modification of 30 CFR 18.35(a)(5)(i) to permit an increase in the maximum length of trailing cables supplying power to roof bolters beyond 500 feet. The petitioner asserts this alternate method of compliance will decrease the likelihood of cable damage and therefore enhance safety for miners handling the cable.

The petitioner states that:

(a) Increasing the length of cable supplying power to the roof bolter machines will reduce the frequency that a section power center must be advanced, and thus, lessen handling of the cable, decrease the opportunities for cable damage, and minimize exposure to the miners handling the cable.

The petitioner proposes the following:

(a) This petition shall apply only to trailing cables supplying three-phase, 995-volt power to roof bolters.

(b) The maximum length of the 995-volt trailing cables shall be 950 feet.

(c) The 995-volt trailing cables shall not be smaller than #2 American Wire Gauge (AWG).

(d) A Schweitzer Engineering Laboratories 751A (“SEL-751A”) overcurrent protection relay will be used, and a designated official of Patton Mining, LLC shall manage the password protected settings.

(e) All circuit breakers used to protect #2 AWG trailing cables exceeding 700 feet in length shall have instantaneous trip units calibrated to trip at 800 amperes. The trip setting of these circuit breakers shall be password protected, and these circuit breakers shall have permanent, legible labels. Each label shall identify the circuit breaker as being suitable for protecting #2 AWG cables. This label shall be maintained legible.

(f) Replacement instantaneous trip units that are used to protect #2 AWG trailing cables, shall be calibrated to trip at 800 amperes, and this setting shall be password protected.

(g) During each production day, persons designated by the operator shall visually examine the trailing cables to ensure that the cables are in safe operating condition.

(h) Any trailing cable that is not in safe operating condition shall be removed from service immediately and shall be repaired or replaced.

(i) Each splice or repair in the trailing cables shall be made in a workmanlike manner and in accordance with the instructions of the manufacturer of the splice or repair materials. The splice or repair shall comply with 30 CFR 75.603 and 75.604.

(j) Permanent warning labels shall be installed and maintained on the cover(s) of the power center identifying the location of each password protected short-circuit protection device. These labels shall warn miners not to change or alter the short-circuit settings.

(k) The petitioner's alternative method shall not be implemented until miners designated to examine the integrity of the settings, verify the short-circuit settings, examine trailing cables for defects and damage according to the proper procedure have received specified training.

(l) Within sixty (60) days after this petition is granted, the petitioner shall propose revisions to the mine's training plans approved under 30 CFR part 48 and submit the proposed revisions to the Coal Mine Safety and Health District Manager for the area where the mine is located. The training shall include the following elements:

1. Training in mining methods and operating procedures that will protect the trailing cables against damage;

2. Training in the proper procedures for examining the trailing cables to ensure the cables are in safe operating condition;

3. Training in hazards of setting the instantaneous circuit breakers too high to adequately protect the trailing cables; and

4. Training in how to verify the circuit interrupting device(s) protecting the trailing cable(s) are properly set and maintained.

The petitioner asserts that the alternate method proposed will at all times guarantee no less than the same measure of protection afforded the miners under the mandatory standards.

Song-ae Aromie Noe,
Acting Deputy Director, Office of Standards, Regulations, and Variances.

[FR Doc. 2021-09796 Filed 5-7-21; 8:45 am]

BILLING CODE 4520-43-P